DEPARTMENT OF AGRICULTURE

Submission for OMB Review; Comment Request

June 10, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 15, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Agriculture Organisms and Vectors; Import and Transport Permits.

OMB Control Number: 0579-0213.

Summary of Collection: The Animal Health Protection Act of 2002 (the Act, 7 U.S.C. 8301 et seq.) authorizes the U.S. Department of Agriculture (USDA) to provide for the oversight of the importation, entry, and movement in the United States of animals, pests, or diseases, or any material or tangible object that could harbor them. Under the Act, USDA regulates certain organisms, biological agents, toxins, vectors, and animal products that have the potential to pose a severe threat to animal health or to animal products through the risk of disease or pest introduction.

The Animal and Plant Health Inspection Service (APHIS) has the primary responsibility for implementing the provisions of the Act within USDA. APHIS regulations for these activities are contained in 9 CFR part 94 (animals or animal products), 9 CFR part 95 (animal by-products) and 9 CFR part 122 (organisms and vectors). The regulations require an individual or entity, unless specifically exempted under the regulations, to apply for and be granted, by APHIS, a permit authorizing specific import or transport activities for regulated materials prior to engaging in the activities.

Need and Use of the Information: The permit application process entails the use of forms designed to obtain critical information concerning individuals or entities seeking a permit, as well as the specific characteristics of the material to be permitted. This data is needed, in part, to allow APHIS to assess the risk of importing or transporting the material, as well as the biosecurity and biosafety mitigations in place at the receiving location. This, in turn, enables APHIS to ensure that appropriate safeguard, containment, and disposal requirements commensurate with the risk of the materials are implemented during transport, import, and upon receipt to protect against the spread or introduction of disease. If the information was collected less frequently or not collected, APHIS' efforts to aggressively prevent agricultural disease or adverse health impacts in the United States would be compromised.

Description of Respondents: Private Sector.

Number of Respondents: 3,214.

Frequency of Responses: Reporting.

Total Burden Hours: 6,055.

Ruth Brown,
Departmental Information Collection Clearance Officer.

[FR Doc. 2022-12867 Filed 6-14-22; 8:45 am]

BILLING CODE 3410-34-P